DEPARTMENT OF COMMERCE

National Oceanic and Atmospheric Administration

50 CFR Part 697

[Docket No. 0912011421-0200-01]

RIN 0648-AY41

Atlantic Coastal Fisheries Cooperative Management Act Provisions; Weakfish Fishery

AGENCY: National Marine Fisheries Service (NMFS), National Oceanic and Atmospheric Administration (NOAA), Commerce.

ACTION: Proposed rule; re-opening of comment period.

SUMMARY: NMFS is reopening the comment period on the proposed rule to set the commercial possession limit for weakfish caught in the Exclusive Economic Zone (EEZ) at 100 lb (45 kg) per day or trip, whichever is longer in duration, and set the recreational possession limit at 1 fish per person per day or trip, whichever is longer in duration. The intent of the proposed rule is to modify regulations for the Atlantic coast stock of weakfish to be more compatible with Addendum IV to Amendment 4 of the Atlantic States Marine Fisheries Commission's (Commission) Interstate Fishery Management Plan (ISFMP) for weakfish. Such action is authorized under the Atlantic Coastal Fisheries Cooperative Management Act (Atlantic Coastal Act).

DATES: The deadline for written comments on the May 12, 2010 (75 FR 26703), proposed rule is re-opened. Comments will be accepted through June 30, 2010.

ADDRESSES: You may submit comments, identified by RIN 0648-AY41, by any one of the following methods:

• Electronic Submissions: Submit all electronic public comments via the Federal e-Rulemaking Portal: http://www.regulations.gov.

• Mail: Office of Sustainable Fisheries, National Marine Fisheries Service, 1315 East-West Highway, Suite 13317, Silver Spring, MD 20910, Attn: State-Federal Team. Mark the outside of the envelope: AComments on Weakfish Addendum IV.@

• Fax: (301) 713-0596, Attn: State-Federal Team.

Instructions: No comments will be posted for public viewing until after the comment period has closed. All comments received are a part of the public record and will generally be posted to http://regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Brian Hooker, (301) 713-2334.

SUPPLEMENTARY INFORMATION:

Background

On November 3, 2009, the Commission adopted Addendum IV to Amendment 4 to the ISFMP for Weakfish (Addendum IV), in response to the stock status of weakfish. A recent peer-reviewed assessment found the weakfish stock to be depleted, with spawning stock biomass estimated to be three percent of an unfished stock, well below the 20-percent threshold and 30-percent target reference points approved by the Commission's Weakfish Management Board as part of Addendum IV. The decline in biomass reflects a sustained rise in natural mortality after 1995, rather than an increase in fishing mortality, which has been modest and stable over the same time period. In response to these findings, the Commission's Weakfish Management Board approved management measures to reduce exploitation of weakfish by more than 50-percent in both the recreational and commercial sectors. Addendum IV requires states to implement a one-fish recreational creel limit, 100 lb (45 kg) commercial trip limit, and 100 lb (45 kg) commercial bycatch limit during closed seasons. Addendum IV maintains the current 12-inch (30.5 cm) minimum size for weakfish, and reduces the number of undersized fish that may be retained per commercial trip from 300 to 100 fish. The sale of undersized fish continues to be prohibited. In implementing Amendment 4 to the weakfish plan, NMFS never adopted the 300 undersized fish exception to the 12-inch (30.5 cm) minimum fish size in Federal waters. NMFS continues the policy of no exemptions to the minimum size limit in the weakfish fishery here by not proposing a 100 undersized fish exception to the current minimum size limit in Federal waters. The Commission recommended in Addendum IV that NMFS promulgate all necessary regulations to implement complementary measures to those approved in the addendum.

On May 12, 2010, NMFS published a proposed rule that would implement compatible management measures in the EEZ in the Federal Register (75 FR 26703) with a 30-day comment period that ended on June 11, 2010. NMFS received a request from the State of North Carolina to extend the comment period for the proposed rule so that they could complete an analysis of the economic impacts of the proposed rule on North Carolina fisheries and submit that information as part of the State's comments on the rule. This additional information would be beneficial to our analysis of economic impacts of the proposed rule. Therefore, to allow for additional public comment to be submitted beyond the initial 30-day deadline, NMFS is reopening the comment period on the proposed rule through June 30, 2010.

Dated: June 11, 2010.
Eric C. Schwab,
Assistant Administrator for Fisheies, National Marine Fisheries Service.

[FR Doc. 2010-14541 Filed 6-11-10; 4:15 pm]

BILLING CODE 3510-22-S